DEPARTMENT OF COMMERCE

National Institute of Standards and Technology

National Conference on Weights and Measures Interim Meeting

AGENCY: National Institute of Standards and Technology, Commerce.

ACTION: Notice.

SUMMARY: The Interim Meeting of the National Conference on Weights and Measures (NCWM) will be held in Riverside, CA, from Sunday, January 26, 2020, through Wednesday, January 29, 2020. This notice contains information about significant items on the NCWM Committee agendas but does not include all agenda items. As a result, the items are not consecutively numbered.

DATES: The meeting will be held from Sunday, January 26, 2020, through Wednesday, January 29, 2020. The meeting schedule will be available on the NCWM website at www.ncwm.com.

ADDRESSES: This meeting will be held at The Mission Inn & Spa, 3649 Mission Inn Avenue Riverside, CA 92501.

FOR FURTHER INFORMATION CONTACT: Dr. Douglas Olson, NIST, Office of Weights and Measures, 100 Bureau Drive, Stop 2600, Gaithersburg, MD 20899-2600. You may also contact Dr. Olson at (301) 975-2956 or by email at douglas.olson@nist.gov. The meeting is open to the public, but a paid registration is required. Please see the NCWM website (www.ncwm.com) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”).

The NCWM is an organization of weights and measures officials of the states, counties, and cities of the United States, and representatives from the private sector and federal agencies. These meetings bring together government officials and representatives of business, industry, trade associations, and consumer organizations on subjects related to the field of weights and measures technology, administration, and enforcement. NIST participates to encourage cooperation between federal agencies and the states in the development of legal metrology requirements. NIST also promotes uniformity in state laws, regulations, and testing procedures used in the regulatory control of commercial weighing and measuring devices, packaged goods, and for other trade and commerce issues.

The NCWM has established multiple committees, task groups, and other working bodies to address legal metrology issues of interest to regulatory officials, industry, consumers, and others. The following are brief descriptions of some of the significant agenda items that will be considered by some of the NCWM Committees at the NCWM Interim Meeting. Comments will be taken on these and other issues during several public comment sessions. At this stage, the items are proposals. This meeting also includes work sessions in which the Committees may also accept comments, and where recommendations will be developed for consideration and possible adoption at the NCWM 2020 Annual Meeting. The Committees may withdraw or carryover items that need additional development.

These notices are intended to make interested parties aware of these development projects and to make them aware that reports on the status of the project will be given at the Interim Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices” (NIST HB 44). Those items address weighing and measuring devices used in commercial applications, that is, devices that are used to buy from or sell to the public or used for determining the quantity of products or services sold among businesses. Issues on the agenda of the NCWM Laws and Regulations Committee (L&R Committee) relate to proposals to amend NIST Handbook 130, “Uniform Laws and Regulations in the Areas of Legal Metrology and Fuel Quality” and NIST Handbook 133, “Checking the Net Contents of Packaged Goods.”

NCWM S&T Committee

The following items are proposals to amend NIST Handbook 44:

SCL—Scales Code

Item SCL-17.1 S.1.8.5. Recorded Representations, Point of Sale Systems, Appendix D—Definitions: Tare

This item is a carry-over item from the 2019 NCWM Annual Meeting that has been on the S&T Committee's Agenda since 2017. The S&T Committee will consider a proposal requiring additional sales information to be recorded by cash registers interfaced with a weighing element for items that are weighed at a checkout stand. This item was assigned for further development by a Task Group in July 2018. The Task Group has provided two different versions of the proposal to the S&T Committee. One version is retroactive and the other is a nonretroactive version. The version that will be adopted is expected to be part of the NCWMs 2020 voting process. The retroactive version would be enforceable on all systems, and the nonretroactive version will be enforceable on only those systems manufactured and placed in service on or after the effective date specified. These systems are currently required to record the net weight, unit price, total price, and the product class, or in a system equipped with price look-up capability, the product name or code number. The change proposed would add “tare weight” to the list of sales information currently required.

Item SCL-16.1 Sections Throughout the Code To Include Provisions for Commercial Weigh-in-Motion Vehicle Scale Systems

This item is another carry-over item originally appearing on the S&T's agenda in 2016. The S&T Committee will consider a proposal drafted by the NCWM's Weigh-In-Motion (WIM) Task Group (TG) to amend various sections of NIST HB 44, Scales Code to address WIM vehicle scale systems used for commercial applications. The TG is made up of representatives of WIM equipment manufacturers, the U.S. Department of Transportation Federal Highway Administration, NIST Office of Weights and Measures, truck weight enforcement agencies, state weights and measures agencies, and others.

The WIM TG was first formed in February 2016 to consider a proposal to expand NIST HB 44, Weigh-In-Motion Systems Used for Vehicle Enforcement Screening—Tentative Code to also apply to legal-for-trade (commercial) and law enforcement applications.

The focus of the TG since July 2016 has been to concentrate on the development of test procedures that can be used to verify the accuracy of a WIM vehicle scale system given the different axle and tandem axle configurations of vehicles that will typically be weighed by a system and a proposed maintenance and acceptance tolerance of 0.2 percent on gross (total) vehicle weight. Members of the TG, to date, have been unsuccessful in agreeing on test procedures, and, as a result, the TG recently developed a “White Paper” during the summer of 2017, which it distributed to the different regional weights and measures associations requesting feedback from their fall 2017 conferences on some different draft test procedures being considered and some other concerns. The TG is awaiting evidence that will substantiate the submitter's claims that these types of WIM systems are capable of meeting NIST HB 44 Scales Code Class III L tolerances.

SCL-20.12 Multiple Sections To Add Vehicle Weigh-in-Motion to the Code and Appendix D—Definitions; Vehicle Scale and Weigh-in-Motion Vehicle Scale

This new item to be considered by the S&T Committee is similar to the previous SCL-16.1 item in that it proposes to add WIM systems for motor vehicles to the NIST HB 44 Scales Code. This new proposal differs from SCL-16.1 however, since it would not apply to axle-load type scales but instead, would apply to a full-length vehicle scale used for WIM.

SCL-20.10 S.1.2.2.2. Class I and II Scales Used in Direct Sale and S.1.2.2.3. Deviation of a “d” Resolution.

The S&T Committee will consider a new proposal to replace two current requirements (S.1.2.2.2. and S.1.2.2.3.) with a new, amended version of S.1.2.2.2. “Class III and IIII Scales.” This item is also related to two other items (individual item SCL-20.11 and SCL-20.2 that is included as part of Block 2 on the agenda) on the S&T Agenda in 2020 in that all three items address the value of “e” and “d” in precision scales. In 2017, the NCWM adopted a proposal adding a new paragraph (S.1.2.2.2.) requiring the value of the scale division (d) and verification scale interval (e) to be equal on Class I and Class II scales installed into commercial service as of January 1, 2020, when used in a direct sale application (i.e., both parties of a weighing transaction are present when the quantity is determined). The S&T Committee will now consider a new proposal that, if adopted, would eliminate the requirement adopted in 2017. This item would instead state that on Class III and IIII scales, the value of “e” will be specified by the manufacturer, and that (except on dynamic monorail scales) “e” must be less than or equal to “d”. The absence of any requirement included in this proposal regarding the value of “e” and “d” for Class I and Class II scales would imply that for those scales, the values of e and d may differ. The other two items mentioned, SCL-20.11 and SCL-20.2, propose different approaches on how the values of “e” and “d” should be addressed in scales used in direct sales applications.

LMD—Liquid Measuring Devices

LMD-20.1 Table S.2.2. Categories of Device and Methods of Sealing

The S&T Committee will consider a new proposal to permit the use of an electronic log in lieu of a printed copy of a Category 3 sealing method on liquid measuring devices. Current NIST HB 44 LMD requirements specify that a printed copy of an event logger must be available and only state that an electronic version of this log can be additionally provided. This new proposal would amend the language in Table S.2.2. “Categories of Device and Methods of Sealing” to permit either form (printed or electronic) of the event logger to be made available.

VTM—Vehicle Tank Meters

VTM-18.1 S.3.1.1. Means for Clearing the Discharge Hose and UR.2.6. Clearing the Discharge Hose

The S&T Committee will again consider this carry-over item that proposes to provide specifications and user requirements for manifold flush systems designed to eliminate product contamination on VTMs used for multiple products. This proposal would add specifications on the design of VTMs under S.3.1.1., “Means for Clearing the Discharge Hose,” and add a new user requirement UR.2.6., “Clearing the Discharge Hose.” During open hearings at previous NCWM meetings, comments were heard about the design of any system to clear the discharge hose of a product prior to the delivery of a subsequent product which could provide opportunities to fraudulently use this type of system.

EVF—Electric Vehicle Fueling Systems

EVF-20.1 S.1.3.2. EVSE Value of the Smallest Unit

The S&T Committee will consider a new proposal that would specify the maximum value of the indicated and/or recorded electrical energy unit used in an EVSE (Electric Vehicle Supply Equipment). This proposal would reduce (by a factor of 10) the current specified values of these units. The current maximum values of 0.005 MJ and 0.001 kWh would be changed to 0.0005 MJ and 0.0001 kWh respectively. The submitters contend that testing of these systems would be expedited through these changes and reduce the amount of time necessary to complete official tests.

GMA—Grain Moisture Meters 5.56 (A)

GMA-19.1 Table T.2.1. Acceptance and Maintenance Tolerances Air Oven Method for All Grains and Oil Seeds

The S&T Committee will consider a proposal that would reduce the tolerances for the air oven reference method. The proposed new tolerances would apply to all types of grains and oil seeds. This item is a carry-over proposal from 2019 and would replace the contents of Table T.2.1. with new criteria. Additional inspection data will be collected and reviewed to assess whether the proposed change to the tolerances are appropriate.

Block 3 Items

The S&T Committee will consider changes included in this block affecting the NIST HB 44 Taximeters Code (Section 5.54.) and the Transportation Network Measurement Systems (TNMS) Code (Section 5.60.) that would amend the value of tolerances allowed for distance tests. The changes proposed in this item would change the Taximeters Code requirement T.1.1. “On Distance Tests” by increasing that tolerance to 2.5% when the test exceeds one mile. The change to the TNMS Code affects requirement T.1.1. “Distance Tests” by reducing the tolerance allowed on overregistration under T.1.1.(a) from the current 2.5% to 1% when the test does not exceed one mile and would increase the tolerance for underregistration in T.1.1.(b) from 2.5% to 4%. These changes if adopted would align the tolerances values for distance tests allowed for taximeters and TNMS.

NCWM L&R Committee

NIST Handbook 130 and NIST Handbook 133

The following items are proposals to amend NIST Handbooks 130 and 133:

Block 1 (B1) Items

NIST Handbook 133, “Checking the Net Contents of Packaged Goods,” and NIST Handbook 130, Uniform Packaging and Labeling Regulation (UPLR), Section 2.8. Multiunit Package.

The L&R Committee will consider a proposal to add a test procedure in NIST Handbook 133 for addressing the total quantity declaration on multiunit or variety packages. In addition, in NIST Handbook 130, it will clarify the definition of Section 2.8. Multiunit package.

NIST Handbook 130, Uniform Method of Sale of Commodities (MOS)

Item MOS-20.4. 2.XX. Ink and Toner Cartridges

The L&R Committee will consider a proposed method of sale for adoption to clarify the labeling requirements for packaged inkjet and toner cartridges to ensure that consumers are informed about the net quantity of contents of these products, value comparisons can be made, and quantities can be verified to ensure equity between buyer and seller and fair competition between sellers, including original equipment manufacturers. Page verification would be in accordance to the ISO/IEC standard.

NIST Handbook 133, “Checking the Net Contents of Packaged Goods”

Item NET-20.2. 4.5. Polyethylene Sheeting, Bags, and Liners

The L&R Committee will consider a proposal under Item NET 20.2. to consider changes to the equipment that is used to test the thickness of polyethylene sheeting, bags, and liners. This modification would allow for electronic instruments to be used for thickness measurements. In addition, changes to the test procedure would need to be modified for the use of electronic instruments.

Under Item ODR NEW, the L&R Committee will consider a recommended proposal to remove the Open Dating Regulation in its entirety from NIST Handbook 130.

Kevin A. Kimball,
Chief of Staff.

[FR Doc. 2020-00205 Filed 1-9-20; 8:45 am]

BILLING CODE 3510-13-P